DEPARTMENT OF LABOR

Employment and Training Administration

[TA-W-57,351]

Medicare Association of UGS, LLC, a Subsidiary of United Government Services, LLC, Ashland, WI; Dismissal of Application for Reconsideration

Pursuant to 29 CFR 90.18(C) an application for administrative reconsideration was filed with the Director of the Division of Trade Adjustment Assistance for workers at Medicare Association of UGS, LLC, a subsidiary of United Government Services, LLC, Ashland, Wisconsin. The application contained no new substantial information which would bear importantly on the Department's determination. Therefore, dismissal of the application was issued.

TA-W-57,351; Medicare Association of UGS, LLC, a subsidiary of United Government Services, LLC, Ashland, Wisconsin (July 27, 2005).

Signed in Washington, DC this 28th day of July 2005.
Timothy Sullivan,
Director, Division of Trade Adjustment Assistance.

[FR Doc. E5-4217 Filed 8-4-05; 8:45 am]

BILLING CODE 4510-30-P